DEPARTMENT OF COMMERCE

National Oceanic and Atmospheric Administration

50 CFR Part 648

[Docket No. 250623-0104]

RIN 0648-BN40

Magnuson-Stevens Act Provisions; Fisheries of the Northeastern United States; Fisheries of the Northeastern United States; 2025-2027 Atlantic Herring Fishery Specifications

AGENCY: National Marine Fisheries Service (NMFS), National Oceanic and Atmospheric Administration (NOAA), Commerce.

ACTION: Proposed specifications, request for comments.

SUMMARY: NMFS proposes new 2025 harvest specifications and river herring and shad catch caps for the Atlantic herring fishery, and projects specifications and catch caps for 2026 and 2027, as recommended by the New England Fishery Management Council. This action also proposes to update the target rebuilding date for Atlantic herring. This action is necessary to respond to updated scientific information from a 2024 management track assessment and to achieve the goals and objectives of the Atlantic Herring Fishery Management Plan, including preventing overfishing, helping rebuild an overfished stock, and achieving optimum yield on a continuing basis.

DATES: Public comments must be received by July 10, 2025.

ADDRESSES: A plain language summary of this proposed rule is available at https://www.regulations.gov/docket/NOAA-NMFS-2025-0049. You may submit comments on this document, identified by NOAA-NMFS-2025-0049 by the following method:

• Electronic Submission: Submit all electronic public comments via the Federal e-Rulemaking Portal. Visit https://www.regulations.gov and type NOAA-NMFS-2025-0049 in the Search box. Click on the “Comment” icon, complete the required fields, and enter or attach your comments.

Instructions: Comments sent by any other method, to any other address or individual, or received after the end of the comment period, may not be considered by NMFS. All comments received are a part of the public record and will generally be posted for public viewing on https://www.regulations.gov without change. All personal identifying information (e.g., name, address, etc.), confidential business information, or otherwise sensitive information submitted voluntarily by the sender will be publicly accessible. NMFS will accept anonymous comments (enter “N/A” in the required fields if you wish to remain anonymous).

Copies of the 2025-2027 herring specifications action, including the Supplemental Information Report (SIR) and the Regulatory Impact Review (RIR) prepared by the New England Fishery Management Council in support of this action, are available from Dr. Cate O'Keefe, Executive Director, New England Fishery Management Council, 50 Water Street, Mill 2, Newburyport, MA 01950. These documents are also accessible via the internet at https://www.nefmc.org/management-plans/herring or http://www.regulations.gov.

FOR FURTHER INFORMATION CONTACT: Carrie Nordeen, Fishery Policy Analyst, 978-281-9272.

SUPPLEMENTARY INFORMATION:

Background

NMFS and the New England Fishery Management Council manage the Atlantic herring fishery pursuant to the Atlantic Herring Fishery Management Plan (FMP). This action proposes to relieve a restriction by increasing herring harvest limits for 2025-2027 up to almost 240 percent compared to the current 2025 herring harvest limits. In 2023, the most recent year for which complete revenue data are available, the herring fishery generated $5.61 million in revenue. This action projects up to an additional $5.25 million in revenue available for 2026 and 2027 compared to revenue associated with the current 2025 harvest limits.

Regulations implementing the FMP appear at 50 CFR part 648, subpart K. The regulations at § 648.200 require the Council to recommend herring specifications for NMFS' review and proposal in the Federal Register, including: The overfishing limit (OFL); acceptable biological catch (ABC); annual catch limit (ACL); optimum yield (OY); domestic annual harvest (DAH); domestic annual processing (DAP); U.S. at-sea processing (USAP); border transfer (BT); the sub-ACL for each management area, including seasonal periods as allowed by § 648.201(d) and modifications to sub-ACLs as allowed by § 648.201(f); and the amount to be set aside for the research set aside (RSA) (3 percent of the sub-ACL from any management area) for up to 3 years. These regulations also provide the Council with the discretion to recommend river herring and shad catch caps as part of the specifications.

Under the Magnuson-Stevens Fishery Conservation and Management Act (Magnuson-Stevens Act), NMFS is required to publish proposed rules for comment after preliminarily determining whether they are consistent with applicable law. Consistent with herring regulations guiding the specifications process, NMFS reviews the Council's recommended specifications and develops proposed specifications based on its evaluation of the Council's recommendations. If the proposed specifications differ from those recommended by the Council, NMFS specifies the reasons for any differences. At this time, NMFS has reviewed and concurs with the Council's recommended 2025-2027 specifications for the herring fishery. Therefore, this action proposes and seeks comment on the Council's recommended herring specifications and river herring and shad catch caps and whether they are consistent with the FMP, the Magnuson-Stevens Act and its National Standards, and other applicable law. NMFS will make a final determination on specifications after considering public comment on the proposed specifications and will publish its responses to public comment and describe any differences from the Council's recommendations in its announcement of final specifications.

Amendment 8 to the FMP (86 FR 1810; January 11, 2021) implemented an ABC control rule for the herring fishery. The ABC control rule is a formulaic approach for setting a harvest limit and is designed to balance the goals and objectives of the FMP, including managing the fishery at long-term sustainable levels and accounting for herring's role as forage in the ecosystem. The ABC control rule states that when biomass is at or above 50 percent of the biomass associated with maximum sustainable yield (BMSY) or its proxy, ABC is the catch associated with a maximum fishing mortality (F) of 80 percent of F associated maximum sustainable yield (FMSY) or its proxy. When biomass falls below 50 percent of BMSY or its proxy, the allowable F declines linearly to zero at 10 percent of BMSY or its proxy.

On October 2, 2020, NMFS determined the Atlantic herring stock was overfished, but overfishing was not occurring. Framework 9 to the FMP (87 FR 42962; July 19, 2022) established a 5-year rebuilding plan for herring with an F consistent with the ABC control rule implemented in Amendment 8. The rebuilding plan was expected to rebuild the stock by 2026; however, the rebuilding target date was extended from 5 years (2026) to 7 years (2028) with implementation of the 2023-2025 herring specifications (88 FR 17397; March 23, 2023).

A 2024 herring management track stock assessment (2024 stock assessment) was completed in June 2024. According to the results of the 2024 stock assessment, the stock continues to be overfished with overfishing not occurring. Retrospective pattern adjustments were necessary because the model overestimated biomass and underestimated mortality. The adjusted spawning stock biomass was estimated to be 26 percent (47,955 metric tons (mt)) of BMSY (186,367 mt) and the adjusted F was estimated to be 58 percent (0.263) of the overfishing threshold (FMSY equals 0.45). Compared to the prior 2022 herring management track stock assessment, FMSY is lower in the 2024 assessment than it was in the previous 2022 assessment (0.45 and 0.50, respectively) and projected biomass is much lower in the 2024 assessment than it was in the 2022 assessment (47,955 mt and 79,231 mt, respectively). The 2024 stock assessment was unable to explain a cause for the stock's historic and continued low recruitment and projected that continued poor recruitment of herring will likely result in a substantial decline in biomass.

Initial Specifications and 2025 In-Season Adjustment

At its September 2024 meeting, the Council reviewed the 2024 stock assessment and OFL and ABC recommendations from its Scientific and Statistical Committee (SSC). Short-term catch projections from the 2024 stock assessment indicated the need for an almost 90-percent reduction from the previously projected 2025 ACL (23,961 mt) (88 FR 17397; March 23, 2023) to the new 2025 ACL (2,710 mt). The Council acknowledged that herring harvest needed to be reduced to prevent overfishing and rebuild the stock and, accordingly, recommended new, reduced specifications for 2025 and projected specifications for 2026-2027. Because river herring and shad management is under consideration in Amendment 10 to the FMP, the Council recommended maintaining the current river herring and shad catch caps for 2025 and projected the current catch caps for 2026-2027. Additionally, the Council requested NMFS use its in-season adjustment authority described in the herring regulations at § 648.200(e) to reduce the 2025 specifications before the start of the fishing year on January 1 to prevent catch from exceeding new, lower limits. NMFS concurred with the Council's request to reduce herring harvest to prevent overfishing and rebuild the stock and, therefore, implemented the reduced 2025 specifications on December 19, 2024 (89 FR 103695).

Updated Specifications

Notably, the catch projections from the 2024 stock assessment which indicated the need for a reduction from the previously projected 2025 specifications to the current, reduced 2025 specifications, were based on the assumption that the 2024 ABC (23,409 mt) would be fully harvested. However, in January 2025, preliminary 2024 herring catch data became available indicating that the amount of herring harvested in 2024 was much lower than what was assumed in the original projections. Based on preliminary herring catch, NMFS estimated only 51 percent of the 2024 herring ACL (10,315 mt of 20,141 mt) was harvested.

At its January 2025 meeting, the Council considered the potential impact of 2024 catch information on its prior recommendations for the 2025-2027 herring specifications. Updated catch projections suggest that less catch in 2024 may allow for higher catch limits in 2025 and beyond, while still achieving the FMP's goals of preventing overfishing and rebuilding the stock. The Council also noted the upcoming March peer review of the 2025 herring research track stock assessment (2025 stock assessment) may provide additional insights on the herring stock. For these reasons, the Council requested the SSC to provide updated herring OFL and ABC recommendations for 2025-2027 based on new information, including the 2024 catch data, March peer review of the 2025 stock assessment, and a risk assessment prepared by the Council's Herring Plan Development Team.

The SSC met on April 4, 2025, and recommended updated OFLs and ABCs for 2025-2027 based on the updated catch projections using preliminary 2024 catch data. The SSC's OFL and ABC recommendations are consistent with the best scientific information available and the herring ABC control rule. During its discussion, the SSC noted uncertainty around catch projection increases and that projected specifications for 2027 would likely be replaced following the currently scheduled 2026 stock assessment. The SSC considered whether lower than expected catch in 2024 was due to herring availability and/or lower fishing effort. Additionally, the SSC expressed concern that the fishery has not been achieving its catch limits and highlighted potential negative socioeconomic impacts of routinely increasing and decreasing catch limits.

At its April 2025 meeting, the Council reviewed and adopted the SSC's updated OFL and ABC recommendations for 2025 and projected limits for 2026-2027, with one exception. In response to the uncertainty around catch projection increases, especially in 2027, the Council recommended that the projected 2027 OFL remain consistent with catch projections, but that all other projected specification values for 2027 be held constant at 2026 levels. Similar to the Council's September 2024 recommendations, this approach uses the best information available, while acknowledging the uncertainty around catch projection increases.

Proposed Specifications

This action proposes new 2025 specifications and projected 2026-2027 specifications for the herring fishery, as recommended by the Council, intended to prevent overfishing, help rebuild an overfished stock, and achieve OY on a continuing basis, consistent with the best scientific information available. Pursuant to § 648.200(a)(2), the Council may annually review these specifications and recommend adjustments if necessary. The current 2025 specifications and the proposed 2025-2027 specifications are shown in table 1.

Table 1—Current and Proposed Herring Specifications
Specifications | Current (mt): 2025 | Proposed (mt): 2025 | Proposed (mt): 2026 | Proposed (mt): 2027
Overfishing Limit | 18,273 | 20,802 | 23,491 | 31,075
Acceptable Biological Catch | 6,741 | 8,587 | 13,165 | 13,165
Management Uncertainty | 4,031 | 4,031 | 4,031 | 4,031
Annual Catch Limit/Optimum Yield | 2,710 | 4,556 | 9,134 | 9,134
Domestic Annual Harvest | 2,710 | 4,556 | 9,134 | 9,134
Border Transfer | 0 | 0 | 0 | 0
Domestic Annual Processing | 2,710 | 4,556 | 9,134 | 9,134
US At-Sea Processing | 0 | 0 | 0 | 0
Area 1A Sub-ACL (28.9%) | 783 | 1,317 | 2,640 | 2,640
Area 1B Sub-ACL (4.3%) | 117 | 196 | 393 | 393
Area 2 Sub-ACL (27.8%) | 753 | 1,267 | 2,539 | 2,539
Area 3 Sub-ACL (39%) | 1,057 | 1,777 | 3,562 | 3,562
Fixed Gear Set-Aside | 30 | 30 | 30 | 30
Research Set-Aside | 0% | 0% | 0% | 0%
If New Brunswick weir landings are less than 2,600 mt through October 1, then 1,000 mt will be subtracted from the management uncertainty and reallocated to the Area 1A sub-ACL and the ACL.

OFL

Both the OFL and ABC are set based on the ABC control rule established in Amendment 8 to the FMP. OFL is equal to catch resulting from applying FMSY to a current estimate of stock size. This action proposes increasing the current OFL by 14 percent for 2025.

ABC

ABC must be less than the OFL. Under the ABC control rule, the target F that defines the ABC depends on the ratio of biomass to BMSY. The larger or smaller the ratio, the larger or smaller the target F and ABC. This action proposes increasing the current ABC by 28 percent for 2025.

Management Uncertainty

The FMP states that sources of management uncertainty can include, but are not limited to, herring landings in the New Brunswick weir fishery and uncertainty around herring catch in State waters and herring discard estimates in Federal waters. The juvenile herring (i.e., ages 1 and 2) landed in the New Brunswick weir fishery are thought to come from the Gulf of Maine (GOM) herring stock complex. Since Framework Adjustment 6 to the FMP was implemented in 2020 (85 FR 26874; May 6, 2020), management uncertainty has been calculated as the average annual landings in the New Brunswick weir fishery over the most recent 10-year period. Recent herring stock assessments have also used the most recent 10-year period to calculate fixed gear herring harvest. Landings in the New Brunswick weir fishery are highly variable, fluctuating with herring availability and fishing effort. Using landings data from a 10-year period captures this variability. Because State-only catch and herring discards are tracked against catch limits and uncertainty around those estimates is low, the Council did not recommend any additional management uncertainty deductions. NMFS concurs. Therefore, this action proposes basing management uncertainty (4,031 mt) on New Brunswick weir fishery landings during the most recent 10 years (2014-2023).

Regulations at § 648.201(h) state that if NMFS determines that the New Brunswick weir fishery landed less than 2,722 mt through October 1, NMFS will subtract 1,000 mt from management uncertainty and reallocate that 1,000 mt to the ACL and Area 1A sub-ACL. The landings threshold amount (i.e., currently 2,722 mt) for reallocation of a portion of the management uncertainty varies based on the amount of management uncertainty, and it has been calculated as 64.5 percent of management uncertainty since 2016. The December 2024 in-season adjustment that reduced the previously scheduled 2025 specifications to the current 2025 specifications did not similarly reduce the landings threshold amount. Therefore, this action proposes reducing the landings threshold amount from 2,722 mt to 2,600 mt to maintain the landings threshold amount at 64.5 percent of the amount of management uncertainty (4,031 mt).

ACL and OY

The ACL is less than or equal to ABC and is set by reducing the ABC by management uncertainty. As described previously, the Council recommended a 4,031-mt management uncertainty deduction for herring landed in the New Brunswick weir fishery. OY may not exceed OFL and may be reduced by social, economic, or ecological factors. The Council did not recommend any additional buffers for 2025-2027 and NMFS concurs, so this action proposes setting OY equal to the ACL.

DAH, BT, and DAP

The FMP specifies that DAH will be set less than or equal to OY and comprised of DAP and BT. DAH should reflect the actual and potential harvesting capacity of the U.S. herring fleet. Fishery catch in 2021 and 2022 was the lowest (7,865 mt and 7,866 mt, respectively) in the 1965-2023 time series, with the last 3 years (2021-2023) of catch as the lowest on record. Because the industry is capable of fully harvesting the OY, this action proposes setting DAH equal to the OY.

BT is a processing allocation available to Canadian vessels and dealers. The Magnuson-Stevens Act provides for the issuance of transshipment permits. These permits allow Canadian vessels to bring herring harvested from Area 1A to Canadian dealers for human consumption processing. Because incentives are currently low to transship herring to Canada for processing, BT been set at zero since 2021. Accordingly, this action proposes setting BT at zero.

DAP is the amount of herring that is processed domestically, as well as herring that is sold for bait. DAP is calculated by subtracting BT from DAH. Using this formula, this action proposes setting DAP equal to DAH.

USAP

A portion of DAP may be specified for the at-sea processing of herring in Federal waters. When determining the USAP specification, the Council considers availability of shore-side processing, status of the resource, and opportunities for vessels to participate in the herring fishery. During 2007-2009, the Council maintained a USAP specification of 20,000 mt (Management Areas ⅔ only) based on information received about a new at-sea processing vessel that intended to utilize a substantial amount of the USAP specification. However, this operation never materialized and, consequently, USAP has been set at zero since 2010. No new information supports revising this specification, therefore, this action proposes setting USAP at zero.

Sub-ACLs

The herring stock complex is managed as a single stock, but it is composed of inshore (GOM) and offshore (Georges Bank (GB)) stock components. These stock components segregate during spawning and mix during feeding and migration and herring management areas were developed in recognition of these different stock components. Area 1 is located in the GOM and is divided into an inshore section (Area 1A) and an offshore section (Area 1B). Area 2 is located in the coastal waters between Massachusetts and North Carolina, and Area 3 is on GB. The ACL for herring is divided into four management area sub-ACLs to minimize the risk of over-harvesting stock components while maximizing opportunities for the fishery to achieve OY. The percentage of the ACL allocated to each management area sub-ACL, (i.e., Area 1A = 28.9 percent, Area 1B = 4.3 percent, Area 2 = 27.8 percent, Area 3 = 39 percent) has remained constant since 2013. No new information supports revising the sub-ACL percentages, therefore, this action proposes maintaining the current management area sub-ACL percentages.

Herring regulations at § 648.201(g) specify how to account for herring catch that exceeds herring management area sub-ACLs. Specifically, if NMFS determines that catch exceeded a herring sub-ACL by 10 percent or less and the ACL was not exceeded, then NMFS shall not deduct any amount of the overage from the applicable sub-ACL or ACL in the fishing year following total catch determination. In 2023, NMFS determined herring catch exceeded the Area 1A sub-ACL (4,345 mt) by 99 mt and exceeded the Area 3 sub-ACL (4,806 mt) by 314 mt, but total catch (10,228 mt) did not exceed the ACL (13,287 mt). Because 2023 catch overages were less than 10 percent of the sub-ACLs and total catch did not exceed the 2023 ACL, this action proposes no adjustments to the 2025 sub-ACLs or ACL to account for catch overages in 2023. In 2024, based on preliminary data, NMFS determined there were no catch overages in 2024, so this action proposes no adjustments to the 2026 sub-ACLs or ACL to account for catch overages in 2024.

Additionally, herring regulations at § 648.201(g) specify that unharvested catch in a herring management area in a fishing year (up to 10 percent of that area's sub-ACL) shall be carried over and added to the sub-ACL for that herring management area for the fishing year following the year when total catch is determined. Carryover is added to the applicable management area sub-ACL, but it is not added to the ACL. NMFS determined that catch levels were substantially lower than allowed in herring management areas 1B and 2 in 2023 and in all management areas during 2024. Thus, a percentage of unharvested catch from 2023 and 2024 is eligible for carryover in 2025 and 2026, respectively. From 2023, 54 mt for Area 1B and 346 mt for Area 2 is eligible for carryover. From 2024, based on preliminary catch data, 518 mt for Area 1A, 83 mt for Area 1B, 534 mt for Area 2, and 748 mt for Area 3 is eligible for carryover. Based on these data, carryover has the potential to increase 2025 and 2026 sub-ACLs up to an additional 20 percent. In an effort to better support the FMP's conservation and management objectives, the Council recommended that no unharvested catch should be carried over and added to any management area sub-ACL for 2025 and 2026, and NMFS concurs. Therefore, this action proposes no adjustments to the 2025 and 2026 sub-ACLs to account for unharvested catch in 2023 or 2024, respectively.

Fixed Gear Set-Aside

Herring regulations (§ 648.201(f)) specify that up to 500 mt of the Area 1A sub-ACL shall be allocated for the fixed gear fisheries in Area 1A (weirs and stop seines) that occur west of 67°16.8 W long. (Cutler, Maine). This set-aside shall be available for harvest by the fixed gear within the specified area until November 1 of each year; any portion of the allocation that is unused after November 1 will be restored to the Area 1A sub-ACL. In recent years, the fixed gear set-aside has been proportionally reduced relative to the Area 1A sub-ACL, but it has been maintained at 30 mt since 2020 to recognize the historical importance of the Maine fishery. No new information supports revising the fixed gear set-aside; therefore, this action proposes setting the fixed gear set-aside at 30 mt.

RSA

Herring regulations (§ 648.200(a)) allow for up to 3 percent of management area sub-ACL to be set-aside to fund research. During 2019-2021, the herring RSA for each management area was set to 3 percent of each area's sub-ACL. Any unallocated or unused RSA is re-allocated to the sub-ACL and made available to the fleet before the end of the fishing year in accordance with the Administrative Procedure Act (APA), provided that the RSA can be available for harvest before the end of the fishing year for which the RSA is specified. However, with recent sub-ACL reductions, it has been difficult to harvest RSA, and the Council determined it was more beneficial to have that allocation applied directly to the herring fishery while catch limits are so low. Therefore, RSA has been set at zero since 2022. No new information supports revising RSA; therefore, this action proposes setting RSA at zero.

Status of Rebuilding Plan

As described previously, Framework 9 established a rebuilding plan for herring that became effective in August 2022. The rebuilding plan was expected to rebuild the stock by 2026, however, the target rebuilding date was extended from 5 years (2026) to 7 years (2028) with implementation of the 2023-2025 herring specifications. Projections from 2024 stock assessment indicate the herring stock is no longer likely to rebuild by 2028, but it could rebuild by 2031. Therefore, this action proposes revising the target rebuilding date for herring to 2031 to reflect the results of the 2024 stock assessment. This updated target rebuilding date falls within the 10-year rebuilding period required under the Magnuson-Stevens Act.

Proposed River Herring and Shad Catch Caps

Herring regulations (§ 648.200(b)(6)) provide for river herring and shad catch caps by gear and area. The current catch caps were originally set in the 2016-2018 specifications (FR 81 75731; November 1, 2016) and have been maintained since. In the absence of a biologically-based method to determine catch cap values, catch cap values were set based on river herring and shad catch during a “reference period” before catch caps were adopted (2008-2014). Catch is tracked against river herring and shad catch caps on trips landing more than 6,600 pounds (lb; 3,000 kilogram (kg)) of Atlantic herring. Once a catch cap is reached, the possession limit for herring vessels using that gear type and fishing in that area (or the corresponding catch cap closure area) is reduced to 2,000 lb (907 kg) of Atlantic herring for the remainder of the fishing year. Catch caps are intended to provide an incentive for the herring fleet to continue to reduce river herring and shad catch, while allowing the fleet to fully harvest the Atlantic herring OY. Because river herring and shad management is under consideration in Amendment 10 to the FMP, this action proposes maintaining the current river herring and shad catch caps for 2025 and projects the current catch caps for 2026-2027 (see table 2).

Table 2—Current and Proposed River Herring and Shad Catch Caps
Catch cap | 2025 (mt) | 2026 (mt) | 2027 (mt)
Gulf of Maine Midwater Trawl | 76.7 | 76.7 | 76.7
Cape Cod Midwater Trawl | 32.4 | 32.4 | 32.4
Southern New England Midwater Trawl | 129.6 | 129.6 | 129.6
Southern New England Bottom Trawl | 122.3 | 122.3 | 122.3

Classification

NMFS is issuing this rule pursuant to section 305(d) of the Magnuson-Stevens Act. In a previous action taken pursuant to section 304(b), the regulations at 50 CFR 648.200 authorize NMFS to take this action under Magnuson-Stevens Act section 305(d). The NMFS Assistant Administrator has determined that this proposed rule is consistent with the Atlantic Herring FMP, National Standards and other provisions of the Magnuson-Stevens Act, and other applicable law, subject to further consideration after public comment.

Section 304(b) of the Magnuson-Stevens Act (16 U.S.C. 1854(b)) requires publication of proposed regulations in the Federal Register with a public comment period of 15 to 60 days. A 15-day comment period for this action provides a reasonable opportunity for public participation in this action pursuant to APA section 553(c) (5 U.S.C. 553(c)), while also helping to ensure that the final specifications are effective prior to the start of the summer fishery in July 2025. This is a routine specifications action that occurs every 2 years and are subject to ongoing Council review and public comment. Fishing industry members and stakeholders regularly participate in developing specifications actions, and they participated in public meetings to develop this action over the past year. Additionally, the action proposes to relieve a restriction by increasing 2025-2027 catch limits compared to current 2025 catch limits. A longer comment period would be contrary to the public interest, as it could further extend this proposed rulemaking into 2025, potentially hindering the fishing industry's ability to fully harvest the higher OY in 2025.

This proposed rule has been determined to be not significant for purposes of Executive Order 12866.

This proposed rule is not an Executive Order 14192 regulatory action because this proposed rule is not significant under Executive Order 12866.

This proposed rule contains no information collection requirements under the Paperwork Reduction Act of 1995.

An initial regulatory flexibility analysis (IRFA) was prepared, as required by section 603 of the RFA (RFA). The IRFA describes the economic impact this proposed rule, if adopted, would have on small entities. A description of the action, why it is being considered, and the legal basis for this proposed action are contained at the beginning of this section in the preamble and in the SUMMARY section of the preamble. A summary of the analysis follows. A copy of this analysis is available from the Council (see ADDRESSES).

Description of the Reasons Why Action by the Agency Is Being Considered and Statement of the Objectives of, and Legal Basis for, the Proposed Rule

This action proposes 2025-2027 specifications for the Atlantic herring fishery. A complete description of the reasons why this action is being considered, and the objectives of and legal basis for this action, are contained in the preamble to this proposed rule and are not repeated here.

Description and Estimate of Number of Small Entities to Which This Proposed Rule Would Apply

The directly-regulated entities are the firms that currently hold at least one Atlantic herring permit (i.e., Categories A, B, C, D, or E). The RFA recognizes three kinds of small entities: Small businesses; small organizations; and small governmental jurisdictions. A small entity is classified as a finfish firm if more than half of the firm's gross receipts are derived from finfish with receipts of up to $20.5 million of gross revenues annually. Herring-permitted vessels may hold permits for several fisheries, harvesting species of fish that are regulated by several different fishery management plans, even beyond those affected by the proposed action. Furthermore, multiple permitted vessels and/or permits may be owned by entities with various personal and business affiliations.

Table 3—Number and Characterization of Directly-Regulated Entities and Average Revenue From 2019-2023
Size | Type | Firms | Vessels | Average gross receipts | Average herring receipts
Small | Fishing | 739 | 1,174 | $831,00 | $7,000
Small | For Hire | 138 | 178 | 215,000 | 0
Large | Fishing | 10 | 135 | 19,094,000 | 98,000
Source: NMFS.

Table 3 indicates there are many small firms with herring permits, but that revenue from herring is only a small percentage of their total revenue. This may be because these firms only hold a Category D open access permit with a low herring possession limit (6,600 lb (3,000 kg)) or that these firms are not active in the herring fishery. The herring fishery has had historically low ACLs since 2018. Some firms have stopped participating in the fishery, but continue to hold herring permits to preserve the option to fish.

Table 4—Number and Characterization of Directly-Regulated, Small Entities Active in the Atlantic Herring Fishery and Average Revenue From 2019-2023
Size | Type | Firms | Vessels | Average gross receipts | Average herring receipts
Small | Fishing | 29 | 61 | $1,510,000 | $171,000
Source: NMFS.

Table 4 describes a subset of the directly-regulated, small entities that hold a Limited Access Permit (i.e., Categories A, B, C) or an Open Access Areas ⅔ Permit (i.e., Category E) and participated in the herring fishery between 2019 and 2023. The small firms identified in table 4 are the firms most likely to be affected by the proposed action. Because there are fewer than three directly-regulated, large entities, data confidentiality requirements prevent those data from being included.

Description of Projected Reporting, Recordkeeping, and Other Compliance Requirements

This action contains no new collection-of-information, reporting, or recordkeeping requirements.

Federal Rules Which May Duplicate, Overlap, or Conflict With the Proposed Rule

This action does not duplicate, overlap, or conflict with any other Federal rules.

Description of Significant Alternatives to the Proposed Action Which Accomplish the Stated Objectives of Applicable Statues and Which Minimize Any Significant Economic Impact on Small Entities

For the 2025-2027 herring specifications, the proposed action would relieve a restriction by allowing higher catch limits than would maintaining the current ACL. The current 2025 ACL (2,710 mt) is the lowest ACL on record for the herring fishery. In comparison, the proposed ACL for 2025 (4,556 mt) is 68 percent higher than the current ACL and the projected ACLs for 2026-2027 (9,134 mt) are 237 percent higher than the current ACL. There is no significant alternative to the proposed action to accomplish the objectives of applicable statutes and minimize any significant economic impact on small entities.

Table 5—Projected Landings, Prices, and Revenue Under the Proposed Action for 2025-2027
Year | Landings (mt) | Price * | Revenue **: Proposed ACL | Revenue **: Amount of increase compared to current ACL
2025 | 4,556 | $862 | $3,925,000 | $1,560,000
2026 | 9,134 | 834 | 7,618,000 | 5,253,000
2027 | 9,134 | 834 | 7,618,000 | 5,253,000
* Price is based on real 2023 U.S. dollars per mt.
** Revenue is based on real 2023 U.S. dollars.
Source: NMFS.

In general, table 5 projects increased landings and revenue under the proposed action compared to the current 2025 ACL. The increase in landings results in modestly lower herring prices. As described previously, it is likely that the projected 2027 specifications would be replaced following the 2026 stock assessment.

Despite proposed increases to the ACLs, the SIR for the 2025-2027 herring specifications concluded the impacts of the proposed action on herring fishery-related businesses and communities would likely remain negative. Despite moderate ACL increases, the proposed action would continue the period of substantially reduced catch limits implemented in 2019. The low ACL and corresponding sub-ACLs would likely lead to continued low fishing effort, which could have negative social and economic impacts in fishing communities and for stakeholders directly or indirectly reliant on the herring fishery. Users of fresh herring as bait may need to switch to an alternative supply (e.g., frozen herring bait or menhaden). Additionally, the proposed action could prevent larger vessels from participating in the fishery altogether, resulting in a potential loss of jobs for crew and adverse community impacts (e.g., reduced spending on ice, fuel, cold storage, other supplies).

For the 2025-2027 river herring and shad catch caps, the proposed action would maintain the values, gears, and areas for the catch caps that were originally implemented in 2016. There is no significant alternative to the proposed action to accomplish the objectives of applicable statutes and minimize any significant economic impact on small entities.

NMFS has determined that this proposed action would not have a substantial direct effect on one or more Indian Tribes, on the relationship between the Federal Government and Indian Tribes, or on the distribution of power and responsibilities between the Federal Government and Indian Tribes; therefore, consultation with Tribal officials under E.O. 13175 is not required, and the requirements of sections (5)(b) and (5)(c) of E.O. 13175 also do not apply. A Tribal summary impact statement under section (5)(b)(2)(B) and section (5)(c)(2)(B) of E.O. 13175 is not required and has not been prepared.

List of Subjects in 50 CFR Part 648

Fisheries, Fishing, Recordkeeping and reporting requirements.

Dated: June 23, 2025.
Samuel D. Rauch, III,
Deputy Assistant Administrator for Regulatory Programs, National Marine Fisheries Service.

For the reasons set out in the preamble, 50 CFR part 648 is proposed to be amended as follows:

PART 648—FISHERIES OF THE NORTHEASTERN UNITED STATES

1. The authority citation for part 648 continues to read as follows:

Authority: 16 U.S.C. 1801 et seq.

2. In § 648.201, revise paragraphs (g)(2) and (h) to read as follows:

§ 648.201 AMs and harvest controls.

* * * * *

(g)(2). No unharvested catch will be carried over and added to any management area sub-ACL for the 2025 and 2026 fishing years.

(h) If NMFS determines that the New Brunswick weir fishery landed less than 2,600 mt of herring through October 1, NMFS will subtract 1,000 mt from management uncertainty and reallocate that 1,000 mt to the ACL and Area 1A sub-ACL. NMFS will notify the Council of this adjustment and publish the adjustment in the Federal Register.

[FR Doc. 2025-11711 Filed 6-24-25; 8:45 am]

BILLING CODE 3510-22-P